DEPARTMENT OF COMMERCE

National Oceanic and Atmospheric Administration

50 CFR Part 679

RIN 0648-BD98

Fisheries of the Exclusive Economic Zone Off Alaska; Groundfish of the Gulf of Alaska; Groundfish of the Bering Sea and Aleutian Islands

AGENCY: National Marine Fisheries Service (NMFS), National Oceanic and Atmospheric Administration (NOAA), Commerce.

ACTION: Notice of availability of fishery management plan amendments; request for comments.

SUMMARY: The North Pacific Fishery Management Council (Council) submitted Amendment 100 to the Fishery Management Plan for Groundfish of the Bering Sea and Aleutian Islands Management Area (BSAI FMP) and Amendment 91 to the Fishery Management Plan for Groundfish of the Gulf of Alaska (GOA FMP). If approved, these amendments would add grenadiers to the ecosystem component category in the BSAI FMP and GOA FMP. This proposed action is necessary to limit and monitor the incidental catch of grenadiers in the groundfish fisheries. This proposed action is intended to promote the goals and objectives of the Magnuson-Stevens Fishery Conservation and Management Act, the FMPs, and other applicable law.

DATES: Comments must be received no later than July 7, 2014.

ADDRESSES: You may submit comments on this document, identified by NOAA-NMFS-2014-0023, by any of the following methods:

• Electronic Submission: Submit all electronic public comments via the Federal e Rulemaking Portal. Go to www.regulations.gov/#!docketDetail;D=NOAA-NMFS-2014-0023, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 100 to the BSAI FMP, Amendment 91 to the GOA FMP, and the Environmental Assessment, the Regulatory Impact Review, and the Initial Regulatory Flexibility Analysis (collectively, Analysis) prepared for this action are available from www.regulations.gov or from the NMFS Alaska Region Web site at alaskafisheries.noaa.gov.

Written comments regarding the burden-hour estimates or other aspects of the collection-of-information requirements contained in this proposed rule may be submitted to NMFS and by email to OIRA_Submission@omb.eop.gov or fax to (202) 395-7285.

FOR FURTHER INFORMATION CONTACT: Gretchen Harrington, 907-586-7228.

SUPPLEMENTARY INFORMATION: The Magnuson-Stevens Fishery Conservation and Management Act (Magnuson-Stevens Act) requires that each regional fishery management council submit any fishery management plan amendment it prepares to NMFS for review and approval, disapproval, or partial approval by the Secretary of Commerce. The Magnuson-Stevens Act also requires that NMFS, upon receiving a fishery management plan amendment, immediately publish a notice in the Federal Register announcing that the amendment is available for public review and comment. This notice announces that proposed Amendment 100 to the BSAI FMP and Amendment 91 to the GOA FMP are available for public review and comment.

NMFS manages the groundfish fisheries in the exclusive economic zone of the GOA and BSAI under the GOA FMP and BSAI FMP (collectively, the FMPs). The Council prepared these FMPs under the authority of the Magnuson-Stevens Act, 16 U.S.C. 1801 et seq. Regulations implementing the FMPs appear at 50 CFR part 679. General regulations governing U.S. fisheries also appear at 50 CFR part 600.

The groundfish fisheries in the BSAI and GOA incidentally catch grenadiers (family Macrouridae) while harvesting target groundfish. For many years, the Council has considered how best to classify grenadiers in the FMPs. From 1980 to 2010, grenadiers were included in the FMPs in the nonspecified species category. Nonspecified species were defined as a residual category of species and species groups of no current or foreseeable economic value or ecological importance, which are taken in the groundfish fishery as incidental catch and are in no apparent danger of depletion, and for which virtually no data exists that would allow population assessments.

In 2010, the Council recommended and NMFS removed the nonspecified species category from the FMPs when the FMPs were revised to meet Magnuson-Stevens Act requirements for annual catch limits (ACLs) and accountability measures (AMs) under Amendment 96 to the BSAI FMP and Amendment 87 to the GOA FMP (Amendments 96/87, 75 FR 38454, July 2, 2010). The nonspecified species, including grenadiers, were removed from the FMPs because these species were too poorly understood to set ACLs and AMs or to develop a management regime.

Amendments 96/87 also amended the FMPs to organize the species remaining in the FMPs according to the National Standard 1 guidelines (50 CFR 600.310). In the National Standard 1 guidelines, NMFS recommends two categories for species in an FMP: “Stocks in the fishery” and “ecosystem component (EC) species.”

“Stocks in the fishery” are defined in the National Standard 1 guidelines (§ 600.310(d)(2)). “Stocks in the fishery” include (1) stocks that are targeted, and retained for sale or personal use; (2) stocks that are not directly targeted but are taken incidentally in other directed fisheries, and are retained for sale or personal use; or (3) stocks not targeted or retained but are taken as incidental catch and for which overfishing or overfished status may be a concern.

NMFS created the EC species category to encourage ecosystem approaches to management and to incorporate ecosystem considerations for species that are not “stocks in the fishery” (74 FR 3178, January 16, 2009). EC species are defined in the National Standard 1 guidelines (§ 600.310(d)(5)). In order to be designated an EC, the species or species group should be (1) a non-targeted species or species group; (2) not subject to overfishing, overfished, or approaching an overfished condition; (3) not likely to become subject to overfishing or overfished in the absence of conservation and management measures; and (4) not generally retained for sale or personal use.

Amendments 96/87 established the EC category and designated prohibited species (which include salmon, steelhead trout, crab, halibut, and herring) and forage fish (as defined in Table 2c to part 679 and § 679.20(i)) as EC species in the FMPs. For EC species, NMFS maintained conservation regulations applicable to the specific EC species. These include prohibiting the retention of prohibited species, prohibiting directed fishing for forage fish, and establishing a limit on the incidental harvest of forage fish while directed fishing for other groundfish species, known as a maximum retainable amount, of 2 percent. Regulations at 50 CFR 679.2 define the term “directed fishing.” Regulations at § 679.20(e) describe the application and calculation of maximum retainable amounts.

When the Council recommended Amendments 96/87, it recognized that as information on a nonspecified species improves, it would consider moving that species back into the FMP, either as a “stock in the fishery” or as an EC species. In 2010, the Council initiated an analysis to consider moving grenadiers back into the FMPs. The Council determined that sufficient information exists for grenadiers to address them in the FMPs, as reflected in the Analysis prepared for this action (see ADDRESSES). The Analysis provides the best available information on grenadiers and considers two action alternatives: Include grenadiers in the FMP as an EC species, or include grenadiers in the FMP as a “stock in the fishery.”

In February 2014, the Council voted unanimously to recommend Amendments 100/91 to the FMPs to add grenadiers to the EC category in the FMPs. The Council and NMFS recognized that adding grenadiers to the FMPs in the EC category would acknowledge their role in the ecosystem and limit the groundfish fisheries' impact on grenadiers. Adding grenadiers to the EC category allows for improved data collection and catch monitoring appropriate for grenadiers given their abundance, distribution, and catch. The Council and NMFS determined that grenadiers are not a “stock in the fishery” because (1) grenadiers are not a target stock; (2) they are not generally retained for sale or personal use; and (3) they are not overfished, subject to overfishing, or approaching overfished or overfishing. The following information describes why grenadiers would be appropriate to include in the FMPs as an EC species based on information summarized from the Analysis.

Grenadiers are not a targeted species group and are not generally retained for sale or personal use. Grenadiers have no current or foreseeable economic value. Section 3.3 of the Analysis explains that grenadiers are incidentally caught in deep water trawl and hook-and-line fisheries, but are not actively targeted or purposefully retained. In 2013, there was almost no reported retention of grenadiers in the BSAI (only 1 metric ton (t) or 2,205 pounds (lb)), and, in the GOA, only 55 t (121,254 lb) of grenadiers were retained. This represents a GOA fishery-wide retention rate of less than one half of one percent. Of this retention of grenadiers, 35 t (77,162 lb) was made into fish meal, 17 t (37,479 lb) was discarded at the dock, 3 t (6,614 lb) was retained for bait, and less than 1 t (2,205 lb) was sold. Thus, there is no evidence that grenadiers are presently being targeted or generally retained. It is likely that grenadiers are being retained only when mixed with other catch.

Grenadiers are not generally retained for sale or personal consumption. As explained in Section 3.3.4 of the Analysis, attempts to create a marketable product from giant grenadiers have been unsuccessful. Grenadiers have very low protein content, high moisture content, and are generally regarded as mushy and unpalatable. No current market exists for grenadiers, and it is unlikely that one will be developed in the foreseeable future.

Grenadiers are not generally retained for personal use. A small portion of the total catch of grenadiers is known to be retained for use as bait (e.g., 3 t (6,614 lb) in the GOA in 2013). Although grenadiers may be retained for use as bait in hook-and-line fisheries, there is no indication that this is a general practice throughout the hook-and-line fleets. NMFS notes that existing recordkeeping and reporting for the use of grenadiers is voluntary, and could underestimate the amount of grenadiers used for bait. However, the best available information indicates that grenadiers are not generally retained for bait.

At the current level of catch, grenadiers are not subject to overfishing, overfished, or approaching an overfished condition, and are not likely to become subject to overfishing or overfished in the absence of conservation and management measures. Section 3.2 of the Analysis explains that NMFS has been conducting a stock assessment for grenadiers since 2006. At present, stock assessment information for giant grenadier is relatively good compared to many other non-target species off Alaska. Since 2010, the stock assessment has been used to estimate an acceptable biological catch (ABC) and an overfishing level (OFL), using reliable estimates of biomass and natural mortality. Giant grenadiers served as a proxy for the grenadier species group, and the estimated ABC and estimated OFL are based on giant grenadier (Albatrossia pectoralis) because relatively few other grenadier species (family Macrouridae) are caught in the groundfish fisheries or are taken in NMFS surveys. NMFS estimates the incidental catch of grenadiers in the groundfish fisheries using observer data. In the BSAI, the estimated grenadier OFL is 135,236 t (298 million lb) and the estimated catch is 5,294 t (12 million lb, mean for 2003-2013). In the GOA, the estimated grenadier OFL is 46,635 t (103 million lb) and the estimated catch is 8,707 t (19 million lb, mean for 2003-2013).

Additionally, the Council recognized that adding grenadiers to the FMPs in the EC category would acknowledge their role in the ecosystem and limit the groundfish fisheries' impact on grenadiers. Section 3.6 of the Analysis describes the current state of research and understanding about the ecological importance of grenadiers. For example, giant grenadier have an important ecological role given its role as an apex predator. Apex predators reside at the top of their food chain and have few to no predators of their own. In bottom trawl surveys conducted by NMFS in the Bering Sea and the GOA, giant grenadiers are the most abundant fish, in terms of weight, in depths from 600 to 3,000 feet (183-914 meters). Giant grenadiers extend much deeper than 3,000 feet (914 meters). There are reports that they have been caught deeper than 6,000 feet (1,829 meters), but little is known about their abundance in waters deeper than 3,000 feet because neither the NMFS surveys nor fishing effort presently extend below this depth.

NMFS is soliciting public comments on proposed Amendments 100/91 through the end of the comment period (see DATES). NMFS intends to publish in the Federal Register and seek public comment on a proposed rule that would implement Amendments 100/91, following NMFS' evaluation of the proposed rule under the Magnuson-Stevens Act. All comments received by the end of the comment period on Amendments 100/91, whether specifically directed to the FMP amendment or the proposed rule, will be considered in the approval/disapproval decision on Amendments 100/91. Comments received after that date will not be considered in the approval/disapproval decision on Amendments 100/91. To be considered, comments must be received, not just postmarked or otherwise transmitted, by the last day of the comment period.

Authority: 16 U.S.C. 1801 et seq.

Dated: April 30, 2014.
Emily H. Menashes,
Acting Director, Office of Sustainable Fisheries, National Marine Fisheries Service.

[FR Doc. 2014-10210 Filed 5-2-14; 8:45 am]

BILLING CODE 3510-22-P